DEPARTMENT OF ENERGY

Federal Energy Regulatory Commission

[Docket No. ID-6409-000]

Williams, Barry Lawson; Notice of Filing

October 4, 2010.

Take notice that on September 24, 2010, Barry Lawson Williams submitted for filing, an application for authority to hold interlocking positions, pursuant to section 305(b) of the Federal Power Act, Part 45 of the Federal Energy Regulatory Commission's (Commission) Regulations, 18 CFR part 45 (2008), and 18 CFR 385.204 (2008).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Comment Date: 5 p.m. Eastern Time on October 15, 2010.

Kimberly D. Bose,
Secretary.

[FR Doc. 2010-25514 Filed 10-8-10; 8:45 am]

BILLING CODE 6717-01-P